ENVIRONMENTAL PROTECTION AGENCY

[FRL-7376-1]

Notice of Proposed Administrative Order on Consent Pursuant to Section 122(h) of the Comprehensive Environmental Response, Compensation and Liability Act (CERCLA), Jasper County/Tri-State Mining Area Site, Operable Unit No. 1, Jasper County, MO, Docket No. CERCLA 07-2002-0051

AGENCY: Environmental Protection Agency.

ACTION: Notice of proposed administrative order on consent, Jasper County/Tri-State Mining Area Site, Operable Unit No. 1, Jasper County, Missouri.

SUMMARY: Notice is hereby given of a proposed administrative order on consent for recovery of past and projected future response costs concerning the Jasper County/Tri-State Mining Area Site, Operable Unit No. 1, Jasper County, Missouri, with the following parties: E.I. DuPont de Nemours and Company, USX, Inc., and Kellogg Brown & Root, Inc. This proposed settlement was approved by the United States Department of Justice (DOJ) on July 28, 2002.

DATES: EPA will receive written comments relating to the proposed administrative order on consent by October 15, 2002. In addition, a public meeting may be requested pursuant to Section 7003 of RCRA.

ADDRESSES: Comments should be addressed to E. Jane Kloeckner, Senior Assistant Regional Counsel, United States Environmental Protection Agency, Region VII, 901 N. 5th Street, Kansas City, Kansas 66101 and should refer to Jasper County/Tri-State Mining Area Site Administrative Order on Consent, Docket No. CERCLA-07-2002-0051.

The proposed settlement may be examined or obtained in person or by mail from Kathy Robinson, Regional Hearing Clerk, at the office of the United States Environmental Protection Agency, Region VII, 901 N. 5th Street, Kansas City, KS 66101, (913) 551-7567.

SUPPLEMENTARY INFORMATION: The proposed agreement concerns the Jasper County Superfund Site (Site), Operable Unit No.1, located in Jasper County, Missouri. The Site is an abandoned, uncontrolled lead and zinc mining mega-site that contains nine million tons of surface mining wastes on about 5,000 acres located with 270 square miles.

EPA has identified E.I. du Pont de Nemours and Company; Kellogg Brown & Root, Inc.; and USX, Inc. (Settling Respondents) as three of ten viable potentially responsible parties (PRPs) at the Site. These parties are eligible for a peripheral party settlement based on their volume of mining wastes compared to the volume of site-wide wastes and the small amount of contamination that their wastes contribute to the site-wide risks. Each peripheral party produced less than two percent of the ore when compared to the identified PRPs and operated on-site for less than four years.

This settlement requires the Settling Respondents to pay $818,349 to EPA and $88,396 to the State of Missouri. The money will be paid to the Jasper County Site Special Account and used to implement the selected remedial action for the Jasper County Site, Operable Unit No.1, which will address surface mining waste and ecological risks. The estimated costs for OU1 are between $40,000,000 and $90,000,000. Past costs for OU1 are $900,000. Using the low end of the range, the government is recovering about 2% of the total costs for OU1. Seven other viable PRPs remain responsible for significant amounts of mining wastes, and EPA will seek cost recovery or performance of work for OU1 from them.

The covenant not to sue in this settlement provides relief from CERCLA liability for the Site although the Settling Respondents may not be jointly and severally liable for the entire site. This agreement also contains a reservation of rights for natural resource liability for the release of hazardous substances from sources other than mining wastes, and for obligations of the Settling Respondents to complete the feasibility study for the Site.

Dated: August 28, 2002.
James B. Gulliford,
Regional Administrator, United States Environmental Protection Agency, Region VII.

[FR Doc. 02-23366 Filed 9-12-02; 8:45 am]

BILLING CODE 6560-50-P